POSTAL SERVICE

39 CFR Part 111

Streamlining Hard-Copy Postage Statement Processing

AGENCY: Postal Service™.

ACTION: Proposed rule.

SUMMARY: The Postal Service™ is proposing to revise Mailing Standards of the United States Postal Service, Domestic Mail Manual (DMM®), to reflect changes in the processing of hard-copy postage statements accompanying commercial and permit imprint mailings at PostalOne! ® facilities.

DATES: We must receive your comments on or before February 25, 2010.

ADDRESSES: Mail or deliver written comments to the Manager, Mailing Standards, U.S. Postal Service, 475 L'Enfant Plaza, SW., Room 3436, Washington, DC, 20260-3436. You may inspect and photocopy all written comments at USPS Headquarters Library, 475 L'Enfant Plaza, SW., 11th Floor N, Washington, DC, between 9 a.m. and 4 p.m., Monday through Friday. E-mail comments concerning the proposed rule, containing the name and address of the commenter, may be sent to: MailingStandards@usps.gov, with a subject line of “Postage Statement Processing.” Faxed comments are not accepted.

FOR FURTHER INFORMATION CONTACT: Cher Rupp-Ruggeri at 202-268-4019, Anthony Frost at 202-268-8093, or Michael F. Lee at 202-268-7263.

SUPPLEMENTARY INFORMATION: In coordination with ongoing efforts to improve efficiencies of USPS® business mail acceptance operations, the Postal Service proposes to revise its procedures and policies relating to the processing of postage statements in facilities with PostalOne! ® capability.

The PostalOne! system, which can be accessed by business customers as well as by postal employees, is an automated, streamlined method of managing the business mail acceptance process. Expanded use of PostalOne! allows the Postal Service to contain costs and provide greater visibility and ease of use to the mailing community.

With this proposal, the Postal Service would not complete the “USPS Use Only” section of, or round date, hard-copy postage statements (including duplicates) accompanying mailings accepted at PostalOne! facilities. Mailers with PostalOne! access would obtain documentation of their mailings by accessing their account via the Business Customer Gateway. Additional information on the Business Customer Gateway is found at https://gateway.usps.com/bcg or by contacting their district Manager, Business Mail Entry.

In the upcoming March 15, 2010 release of PostalOne!, PS Form 3607, Weighing and Dispatch Certificate, would be revised and re-titled PS Form 3607-R, Mailing Transaction Receipt.

Any mailing entered at other than single-piece prices and all permit imprint mailings must be accompanied by a postage statement. In accordance with current mailing standards, hard-copy postage statements must be completed and signed by the mailer or agent. Postal facilities with PostalOne! capability would enter mailing data electronically and produce a PS Form 3607-R to document the mailing. Upon request, a mailer could obtain a copy of PS Form 3607-R after acceptance and verification are completed. PS Form 3607-R would not be mailed.

There would be no changes in acceptance/postage statement processes for mailings accepted at Post Offices ™ without PostalOne! access.

Although we are exempt from the notice and comment requirements of the Administrative Procedure Act [5 U.S.C. of 553(b), (c)] regarding proposed rulemaking by 39 U.S.C. 410 (a), we invite public comments on the following proposed revisions to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Mail Letters and Cards

* * * * *

230 First Class Mail

* * * * *

234 Postage Payment and Documentation

* * * * *

4.0 Mailing Documentation

4.1 Completing Postage Statements

[Revise 4.1 as follows:]

Any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 4.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

240 Standard Mail

* * * * *

244 Postage Payment and Documentation

* * * * *

4.0 Mailing Documentation

4.1 Completing Postage Statements

[Revise 4.1 as follows:]

Any mailing claiming Standard Mail prices must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 4.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

300 Commercial Flats

* * * * *

330 First Class Mail

* * * * *

334 Postage Payment and Documentation

* * * * *

4.0 Mailing Documentation

4.1 Completing Postage Statements

[Revise 4.1 as follows:]

Any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 4.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

340 Standard Mail

* * * * *

344 Postage Payment and Documentation

* * * * *

4.0 Mailing Documentation

4.1 Completing Postage Statements

[Revise 4.1 as follows:]

Any mailing claiming Standard Mail prices must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 4.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

360 Bound Printed Matter

* * * * *

364 Postage Payment and Documentation

* * * * *

2.0 Mailing Documentation

2.1 Completing Postage Statements

[Revise 2.1 as follows:]

All mailings must be paid by permit imprint and must be accompanied by a postage statement using one of the following approved USPS methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

370 Media Mail

* * * * *

374 Postage Payment and Documentation

* * * * *

2.0 Mailing Documentation

2.1 Completing Postage Statements

[Revise 2.1 as follows:]

Any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.7, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

384 Library Mail

* * * * *

384 Postage Payment and Documentation

* * * * *

2.0 Mailing Documentation

2.1 Completing Postage Statements

[Revise 2.1 as follows:]

Any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.7, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

400 Commercial Parcels

* * * * *

420 Priority Mail

* * * * *

424 Postage Payment and Documentation

* * * * *

2.0 Postage Paid With Permit Imprint

* * * * *

2.3 Postage Statement

[Revise 2.3 as follows:]

Unless manifested using eVS under 705.2.9, any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.4, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

[Add 2.4 as follows:]

2.4 Facsimile Postage Statements

Facsimile postage statements must contain data and elements in locations as close as possible to where they appear on the USPS form. Data fields that do not pertain to information and prices claimed in the mailing and other extraneous information that appears on the USPS form do not have to be included. Facsimiles must include all other information pertaining to the mailing, including the class of mail (or subclass as appropriate), postage payment method (e.g., permit imprint), and four-digit form number (hyphen and suffix optional). All parts, and line numbers within each part, must reflect those on the USPS form. In some cases, this can include fields from multiple USPS forms onto a single facsimile. Most importantly, the facsimile must fully and exactly reproduce the “Certification” and “USPS Use Only” fields that appear on the USPS form. A facsimile postage statement produced by software certified by the USPS Presort Accuracy Validation and Evaluation (PAVE) or Manifest Analysis and Certification (MAC) program is considered a USPS-approved form for these standards. Others may be approved by the entry office postmaster.

* * * * *

430 First Class Mail

* * * * *

434 Postage Payment and Documentation

* * * * *

3.0 Mailing Documentation

3.1 Completing Postage Statements

[Revise 3.1 as follows:]

Unless manifested using eVS under 705.2.9, any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 3.8, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

440 Standard Mail

* * * * *

444 Postage Payment and Documentation

* * * * *

3.0 Mailing Documentation

3.1 Completing Postage Statements

[Revise 3.1 as follows:]

Unless manifested using eVS under 705.2.9, any mailing claiming Standard Mail prices must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 3.8, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

450 Parcel Select

* * * * *

454 Postage Payment and Documentation

1.0 Basic Standards for Postage Payment

* * * * *

1.3 Completing Postage Statements

[Revise 1.3 as follows:]

Unless manifested using eVS under 705.2.9, any mailing claiming Parcel Select prices must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 1.10, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

1.4 Documentation

[Revise 1.4 as follows:]

When presented for acceptance, all Parcel Select mailings must be documented as follows:

a. Documentation of postage by entry office and presort level (e.g., by DBMC, OBMC Presort and BMC Presort mail and by 5-digit ZIP Code for DSCF and DDU prices) as required under 705.2.0 through 705.4.0.

b. Except for DSCF, mail palletized under the alternate preparation option that requires separate documentation, other documentation is not required when the correct price is affixed to each piece, or when each piece is of identical weight and the pieces are separated by zone and within each zone are grouped by pieces subject to the same combination of prices.

c. DSCF mail palletized under the alternate preparation option in 705.8.0 must submit the detailed documentation required in 705.8.20.2.

* * * * *

460 Bound Printed Matter

* * * * *

464 Postage Payment and Documentation

* * * * *

2.0 Mailing Documentation

2.1 Completing Postage Statements

[Revise 2.1 as follows:]

Unless manifested using eVS under 705.2.9, all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.8, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

470 Media Mail

* * * * *

474 Postage Payment and Documentation

* * * * *

2.0 Mailing Documentation

2.1 Completing Postage Statements

[Revise 2.1 as follows:]

Unless manifested using eVS under 705.2.9, any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.7, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

480 Library Mail

* * * * *

484 Postage Payment and Documentation

* * * * *

2.0 Mailing Documentation

2.1 Completing Postage Statements

[Revise 2.1 as follows:]

Unless manifested using eVS under 705.2.9, any mailing claiming other than single-piece prices and all permit imprint mailings must be accompanied by a postage statement using one of the following approved methods:

a. Electronic, at PostalOne! facilities only. Copies of finalized postage statements are available online at the Business Customer Gateway. A change made to any postage statement requires the mailer (agent) to cancel the postage statement online and submit a corrected version.

b. By hard-copy, if the hard-copy postage statements are completed and signed by the mailer (agent). The mailer (agent) may submit a computer-generated facsimile (see 2.7, Facsimile Postage Statements). A change made to any postage statement requires the mailer (agent) to correct the postage statement accordingly and document the correction. Hard-copy postage statements are processed as follows:

1. At PostalOne! facilities—business mail acceptance will enter hardcopy mailing data manually to document the mailing and produce a PS Form 3607-R, Mailing Transaction Receipt. Receipts are available to customers upon request but will not be mailed. Copies of finalized postage statements from PostalOne! facilities are available online at the Business Customer Gateway.

2. At non-PostalOne! facilities—business mail acceptance will provide a signed and round-dated copy of the postage statement when the copy is provided by the mailer (agent).

* * * * *

We will publish an appropriate amendment to 39 CFR Part 111 to reflect these changes if our proposal is adopted.

Stanley F. Mires,
Chief Counsel, Legislative.

[FR Doc. 2010-1499 Filed 1-25-10; 8:45 am]

BILLING CODE 7710-12-P